DEPARTMENT OF AGRICULTURE

Rural Housing Service

Rural Business-Cooperative Service

Rural Utilities Service

Farm Service Agency

7 CFR Part 1940

RIN 0570-AA30

Methodology and Formulas for Allocation of Loan and Grant Program Funds; Correction

AGENCY: Rural Housing Sevice, Rural Business-Cooperative Service, Rural Utilities Service, and Farm Service Agency, USDA.

ACTION: Correcting amendment.

SUMMARY: This document contains a correction to 7 CFR part 1940, subpart L, “Methodology and Formulas for Allocation of Loan and Grant Program Funds” to provide reference to the Rural Business Development Program, which replaced the Rural Business Enterprise Grant program and the Rural Business Opportunity Grant program.

DATES: Effective on September 28, 2016.

FOR FURTHER INFORMATION CONTACT: Kristi Kubista-Hovis, Rural Development, Business Programs, U.S. Department of Agriculture, 1400 Independence Avenue SW., STOP 3226, Washington, DC 20250-3225; telephone (202) 720-0424; email kristi.kubista-hovis@wdc.usda./gov.

SUPPLEMENTARY INFORMATION:

Background

The Agricultural Act of 2014 (2014 Farm Bill) directed the Agency to combine the Rural Business Enterprise Grant (RBEG) program and the Rural Business Opportunity Grant (RBOG) program into a single new program entitled the Rural Business Development Grant (RBDG) program. The Agency issued an interim rule with request for comment on March 25, 2015 (80 FR 15665) establishing the RBDG program and removing the applicable provisions associated with the RBEG and RBOG programs. In the interim rule, the Agency inadvertently did not update the title to 7 CFR 1940.588 to reflect the replacement of the RBEG and RBOG programs with the new RBDG program. To correct this oversight, the Agency is revising the title to 7 CFR 1940.588. This correction has no substantive effect on how State allocations are made for the RBDG program.

Need for Correction

As found in the Code of Federal Regulations, the title to 7 CFR 1940.588 contains reference to two programs (i.e., RBEG and RBOG) that no longer exist as stand-alone programs and does not reference their replacement program (i.e., the RBDG program). This technical change is necessary to claify how the Agency allocates funds for the RBDG program and to remove reference to programs that no longer exist.

List of Subjects in 7 CFR Part 1940

Administrative practice and procedure, Agriculture, Allocations, Grant programs—Housing and community development, Loan programs—Agriculture, Rural areas.

Accordingly, 7 CFR part 1940 is corrected by making the following correcting amendment:

PART 1940—GENERAL

1. The authority citation for part 1940 continues to read as follows:

Authority: 5 U.S.C. 301; 7 U.S.C. 1989; 42 U.S.C. 1480.

2. Revise the heading for § 1940.588 to read as follows:

§ 1940.588 Business and Industry Guaranteed and Direct Loans, Rural Business Development Grants, and Intermediary Relending Program.

* * * * *

Dated: September 9, 2016.
Lisa Mensah,
Under Secretary, Rural Development.
Dated: September 16, 2016.
Alexis M. Taylor,
Deputy Under Secretary, Farm and Foreign Agricultural Services.

[FR Doc. 2016-23228 Filed 9-27-16; 8:45 am]

BILLING CODE 3410-XY-P